DEPARTMENT OF COMMERCE

National Institute of Standards and Technology

Notice of a Public Meeting of the Interim Meeting of National Conference on Weights and Measures in January 2007

AGENCY: National Institute of Standards and Technology, Commerce.

ACTION: Notice of a public meeting.

SUMMARY: The Interim Meetings of the 92nd National Conference on Weights and Measures (NCWM) will be held January 21 to 24, 2007, in Jacksonville, Florida. The majority of the meetings are open to the public but registration is required. The NCWM is an organization of weights and measures officials of the states, counties, and cities of the United States, Federal Agencies, and private sector representatives. These meetings bring together government officials and representatives of business, industry, trade associations, and consumer organizations on subjects related to the field of weights and measures technology, administration, and enforcement. Pursuant to (15 U.S.C. 272(b)(6)), the National Institute of Standards and Technology (NIST) supports the NCWM as one of the means it uses to solicit comments and recommendations on revising or updating a variety of publications related to legal metrology. NIST participates to promote uniformity among the States in laws, regulations, methods, and testing equipment that comprise the regulatory control of commercial weighing and measuring devices and other practices used in trade and commerce. Publication of this Notice on the NCWM's behalf is undertaken as a public service; NIST does not endorse, approve, or recommend any of the proposals contained in this notice or in the publications of the NCWM mentioned below. Please see NCWM Publication 15 which contains detailed meeting agendas and schedules, registration forms and hotel reservation information at http://www.ncwm.net.

DATES: January 21-24, 2007.

ADDRESSES: The Omni Jacksonville, Jacksonville, Florida.

SUPPLEMENTARY INFORMATION: The following are brief descriptions of some of the significant agenda items that will be considered along with other issues at the NCWM Interim Meeting. Comments will be taken on these and other issues during several public comment sessions. At this stage, the items are proposals. This meeting also includes work sessions in which the Committees may also accept comments and where they will finalize recommendations for NCWM consideration and possible adoption at its Annual Meeting to be held July 8 to 12, 2007, at the Snowbird Resort in Salt Lake City, Utah. The Committees may withdraw or carry over items that need additional development.

The Specifications and Tolerances Committee will consider proposed amendments to NIST Handbook 44, “Specifications, Tolerances, and other Technical Requirements for Weighing and Measuring Devices (NIST Handbook 44).” Those items address weighing and measuring devices used in commercial measurement applications, that is, devices that are normally used to buy from or sell to the general public or used for determining the quantity of product sold among businesses. Issues on the agenda of the NCWM Laws and Regulations Committee relate to proposals to amend NIST Handbook 130, “Uniform Laws and Regulations in the area of legal metrology and engine fuel quality and NIST Handbook 133 “Checking the Net Contents of Packaged Goods.” This notice contains information about significant items on the NCWM Committee agendas, and several issues are not presented in this notice. As a result, the following items are not consecutively numbered.

NCWM Specifications and Tolerances Committee

The following items are proposals to amend NIST Handbook 44:

General Code

Item 310-3. Multiple Weighing and Measuring Elements with a Single Provision for Sealing: this item would require new commercial weighing and measuring devices with multiple weighing or measuring elements to be equipped with one of several means to indicate when changes are made to individual elements that affect metrological parameters.

Scales Code

Item 320-1. Zero Indication; Requirements for Markings or Indications for Other than Digital Zero Indications: This proposal would clarify the requirement's original intent for marking zero indications on scales and point-of-sale systems when there is no load on the load receiving element of a scale and where zero is represented by other than a digital zero (e.g., scrolling messages, dashes etc.)

Item 320-5. Tare Rounding on a Multiple Range Scale: This proposal would modify indication and rounding requirements for scales which change the value of the scale division at different weight loads. The requirement will prescribe how a multi-range scale may operate to round and indicate the weight of packaging material which must not be included in the net weight of the commodity bought or sold over the device.

Item 320-9. Definitions for Tare Mechanism, Gross Weight Value, Net Weight, Net Weight Value, Tare, and Tare Weight Value: This proposal is one of several that would adopt new or modify existing definitions for terms for weight values (net, tare, and gross) indicated by a scale during a weighing transaction to reduce the possibility of misinterpretation or misapplication of requirements in either type evaluation or field applications of commercial weighing devices.

Liquid-Measuring Devices

Item 330-1. Value of Smallest Unit of Measure for Meters with Flow-Rates up to or more than 750 liters (200 gallons) per-minute and Stationary Jet Refueling Systems with maximum Flow Rates of 375 liters (100 gallons) per-minute or more: This proposal would provide an exemption and prescribe the conditions in which the handbook would allow 5 liter (1 gallon) increments to be used to indicate the quantity of fuel delivered by the specific devices covered by this proposal.

Item 330-2. Display of Quantity and Total Price in Aviation Refueling Applications: This is a proposal to revise requirements related to the display of delivered quantity and total price for the stationary liquid measuring devices (typically those used at small or midsized airports) to fuel small aircraft.

Vehicle-Tank Meters

Item 331-1. Temperature Com­pen­sation: This is a proposal to add provisions to Handbook 44 to allow vehicle-mounted measuring devices to be equipped with the automatic means to deliver product with the volume compensated to a reference temperature. (See also Item 232-1 below under the Laws and Regulations Committee).

NCWM Laws and Regulations Committee

The following item is a proposal to amend NIST Handbook 130:

Method of Sale of Commodities Regulation

Item 232-1. Temperature Compensation for Petroleum Products: Several proposals will be considered that would allow temperature compensation to take place on a voluntary basis or limit compensation to metering systems with certain flow capacities or specific sales applications. Most of the proposals allow compensation to occur only if certain conditions are met by the seller.

Item 232-2. Biodiesel and Fuel Ethanol Labeling: This item requires the identification and labeling of biodiesel fuels and blends at retail service stations.

FOR FURTHER INFORMATION CONTACT: Carol Hockert, Chief, NIST, Weights and Measures Division, 100 Bureau Drive, Stop 2600, Gaithersburg, MD 20899-2600. Telephone (301) 975-5507, or e-mail: Carol.Hockert@nist.gov.

Dated: December 13, 2006.
James E. Hill,
Acting Deputy Director.

[FR Doc. E6-21607 Filed 12-18-06; 8:45 am]

BILLING CODE 3510-13-P